DEPARTMENT OF DEFENSE

Office of the Secretary

Notice of Availability of the Ballistic Missile Defense System Draft Programmatic Environmental Impact Statement

Correction

In notice document 04-20813 beginning on page 56043 in the issue of Friday, September 17, 2004 make the following corrections:

1. On page 56043, in the second column, under the SUMMARY heading, in the 14th line “MDBS” should read “BMDS”.

2. On the same page, in the third column, in the seventh line, “October 19, 2994” should read “October 19, 2004”.

3. On the same page, in the same column, in the first full paragraph, in the next to last line, “addressed” should read “addresses”.

4. On the same page, in the same column, under the ADDRESSES heading, in the eighth line,

“mda.bmds,peis@icfconsulting.com ” should read “mda.bmds.peis@icfconsulting.com”.

[FR Doc. C4-20813 Filed 9-28-04; 8:45 am]

BILLING CODE 1505-01-D